SECURITES AND EXCHANGE COMMISSION

17 CFR Part 242

[Release No. 34-79237A]

RIN 3235-AL99

Consolidated Audit Trail

ACTION: Notification regarding expired temporary rule.

SUMMARY: The Commission is providing notice regarding temporary Rule 608T under the Securities Exchange Act of 1934. The Commission designated 12:01 a.m. on November 16, 2016, as the expiration time for Rule 608T, because after that time the rule would no longer be necessary.

DATES: December 23, 2016.

FOR FURTHER INFORMATION CONTACT: Rebekah Liu, Special Counsel, at (202) 551-5665; Jennifer Colihan, Special Counsel, at (202) 551-5642; Leigh Duffy, Special Counsel, at (202) 551-5928; John Lee, Special Counsel, at (202) 551-5689; or Ted Uliassi, Special Counsel, at (202) 551-6905, or Division of Trading and Markets, Securities and Exchange Commission, 100 F Street NE., Washington, DC 20549-7010.

SUPPLEMENTARY INFORMATION: On November 3, 2016, the Securities and Exchange Commission adopted a temporary rule, Rule 608T, under the Securities Exchange Act of 1934 to extend to November 15, 2016, the date by which the Commission was required to act on the proposed National Market System Plan Governing the Consolidated Audit Trail (the “CAT NMS Plan”). Rule 608T solely governed the timeframe for action on the proposed CAT NMS Plan. The Commission adopted the temporary rule as an interim final temporary rule in light of the impending November 10, 2016 date designated by the Commission under Rule 608 as the date by which the Commission would take action on the proposed CAT NMS Plan. The Commission designated 12:01 a.m. on November 16, 2016, as the expiration time for Rule 608T because after that time the temporary rule would no longer be necessary.

On November 3, 2016, the Commission published the temporary rule on its Web site. Due to a subsequent clerical error, the temporary rule was not published in the Federal Register. On November 8, 2016, the Commission provided public notice of its scheduled open meeting to consider the CAT NMS Plan, posting the notice on its Web site, and on November 15, 2016, the Commission approved the CAT NMS Plan at its open meeting. The expiration time of 12:01 a.m. on November 16, 2016 for the temporary rule has now passed.

Dated: December 19, 2016.
Brent J. Fields,
Secretary.

[FR Doc. 2016-30883 Filed 12-22-16; 8:45 am]

BILLING CODE 8011-01-P